DEPARTMENT OF HEALTH AND HUMAN SERVICES

Substance Abuse and Mental Health Services Administration

Funding Opportunity Title: Grants To Expand Substance Abuse Treatment Capacity in Targeted Areas of Need (Short Title: Targeted Capacity Expansion (TCE) Grants)

Announcement Type: Initial.

Funding Opportunity Number: TI 05-003.

Catalog of Federal Domestic Assistance (CFDA) Number: 93.243.

Due Date for Applications: January 13, 2005.

[Note: Letters from State Single Point of Contact (SPOC) in response to E.O. 12372 are due March 14, 2005.]

Summary: The Substance Abuse and Mental Health Services Administration (SAMHSA), Center for Substance Abuse Treatment (CSAT), announces the availability of FY 2005 funds for Grants to Expand Substance Abuse Treatment Capacity in Targeted Areas of Need [Short Title: Targeted Capacity Expansion (TCE) Grants]. A synopsis of this Notice of Funding Availability (NOFA), as well as many other Federal Government funding opportunities, is also available at the Internet site: http://www.grants.gov.

For complete instructions, potential applicants must obtain a copy of SAMHSA's standard Services Grants Program Announcement, SVC-05 PA, and the PHS 5161-1 (Rev. 7/00) application form before preparing and submitting an application. The SVC-05 PA describes the general program design and provides instructions for applying for SAMHSA's Services Grants including the Targeted Capacity Expansion Grants program. SAMHSA's Services Grants provide funds to expand and strengthen effective, culturally appropriate substance abuse and/or mental health services at the State and local levels. The services implemented through SAMHSA's Services Grants must incorporate the best objective information available regarding effectiveness and acceptability. In general, SAMHSA's Services Grants are appropriate for applicants seeking Federal support to implement substance abuse and/or mental health services that have a strong evidence-base for effectiveness. SAMHSA's Services Grants must be used primarily to support direct service delivery. SAMHSA expects that the services will be sustained beyond the term of the grant. Additional instructions and specific requirements for the Targeted Capacity Expansion Grants are described below.

I. Funding Opportunity Description

Authority: Section 509 of the Public Health Service Act, as amended and subject to the availability of funds.

The purpose of the Targeted Capacity Expansion Grants program is to expand and/or enhance the community's ability to provide a comprehensive, integrated, and community-based response to a targeted, well-documented substance abuse treatment capacity problem and/or improve the quality and intensity of services. For example, a community might seek a Targeted Capacity Expansion Grant to add state-of-the-art treatment approaches or new services to address emerging trends or unmet needs (e.g., intensive case management, referral, and follow-up services to address related HIV, tuberculosis, hepatitis B and C, and other primary health care needs of substance abusing clients). Applicants are encouraged to engage (coordinate with or subcontract) the skills of private, non-profit, and community-based organizations not eligible to apply on their own because they are not a State or local government entity.

To encourage the substance abuse treatment system to become more responsive and bridge the gap between what is needed by individual States, localities, and/or tribal organizations, and what is known about effective treatments to meet those needs, SAMHSA/CSAT intends to fund projects in three categories in FY 2005: (1) Treatment for selected native populations (American Indian/Alaska Native or Asian American/Pacific Islanders). To meet the disproportionate substance abuse treatment needs of certain native communities, this category specifically identifies American Indian/Alaska Natives (AI/AN) and Asian Americans/Pacific Islanders (AA/PI), including Native Hawaiians as native populations to receive expanded and/or enhanced treatment services under this program; (2) treatment focused on methamphetamine and other emerging drugs in adult, rural populations. This category allows funding for expanding and/or enhancing substance abuse treatment for adults in rural areas in need of treatment for use of methamphetamine and other emerging drugs, including abuse of prescription drugs such as Oxycodone, Hydrocodone and other opioid analgesics; (3) campus screening and brief intervention (SBI) to both combat underage drinking/substance use and promote innovative screening, brief intervention, and referral to treatment of college and university students with or at high risk of substance use disorders. This category is designed to assist colleges and universities to initiate services or expand existing campus based medical services to include identification and intervention with persons with hazardous drinking and/or substance use disorders within the context of student healthcare.

Background: Information reported by SAMHSA underscores a significant disparity between the availability of treatment services for persons with alcohol and drug use disorders and the demand for such services. It is estimated, based on various studies, that there are 3-5 million individuals who use and abuse alcohol and other drugs who have a significant impact on both the utilization of services and costs within the health care, juvenile justice, welfare, child welfare, and other publicly funded social support systems. However, currently, of these individuals, only 1.8 million can be served through the existing publicly funded treatment system. By providing needed treatment services, this program is intended to reduce the health and social costs of substance abuse and dependence to the public, and increase the safety of America's citizens by reducing substance abuse related crime and violence.

II. Award Information

1. Estimated Funding Available/Number of Awards: It is expected that approximately $16 million will be available in FY 2005 to fund programs in three categories: (1) Treatment for selected native populations (American Indian/Alaska Native or Asian American/Pacific Islanders); (2) treatment focused on methamphetamine and other emerging drugs in adult, rural populations; and (3) campus screening and brief intervention to both combat underage drinking/substance use and promote innovative screening, brief intervention, and referral to treatment of college and university students with or at high risk of substance use disorders.

SAMHSA expects that approximately $5.3 million will be available for awards in each category, and that approximately 11 awards will be made in each category. The maximum allowable award is $500,000 in total costs (direct and indirect) per year for up to 3 years. Proposed budgets cannot exceed the allowable amount in any year of the proposed project. Annual continuations will depend on the availability of funds, grantee progress in meeting program goals and objectives, and timely submission of required data and reports.

This program is being announced prior to the annual appropriation for FY 2005 for SAMHSA's programs, with funding estimates based on the President's budget request for FY 2005. Applications are invited based on the assumption that sufficient funds will be appropriated for FY 2005 to permit funding of a reasonable number of applications hereby solicited. All applicants are reminded, however, that we cannot guarantee that sufficient funds will be appropriated to permit SAMHSA to fund any applications.

2. Funding Instrument: Grant.

III. Eligibility Information

1. Eligible Applicants: Eligibility in Category 1 (AI/AN or AA/PI) and Category 2 (methamphetamine and other emerging drugs in adult, rural populations) is restricted to States and units of local government (e.g., cities, towns, counties) or Indian tribes and tribal organizations in recognition of their responsibility for, and interest in, providing for the needs of their citizens, and because the success of the program will depend upon their authority and ability to broadly coordinate a variety of resources. Funding is not designed to meet statewide treatment needs, but to meet the needs of individual communities in cities, towns, counties, and multi-county partnerships. Therefore, States that apply must identify a specific city, town, county or multi-county partnership that will be the targeted geographic area of need.

Eligibility in Category 3 (Campus SBI) is restricted to domestic public and private, non-profit colleges and universities in recognition of their responsibility for, and interest in, providing for the needs of their enrolled students, and because the success of the program will depend upon their authority and ability to approve the planning, implementation, and operation of screening and treatment services that will be utilized by their students. Since the Campus SBI program is restricted to college and university students, it is essential that colleges and universities take the lead in the development of SBI projects that will administer screening, referral to treatment, and treatment and recovery for their students, and maintain partnerships with either college- or university-based providers or community-based organizations that may be providing such services to the college or university.

These eligibility criteria supersede the criteria specified in Section III-1 of the SVC-05 PA.

Applications for SAMHSA Services Grants must include evidence of experience and credentials as described in Section III-3 of the SVC-05 PA. This 2-year experience requirement applies only to specialist substance abuse treatment providers participating in the project.

2. Cost Sharing or Matching is not required.

3. Other: Applicants must also meet certain application formatting and submission requirements, or the application will be screened out and will not be reviewed. These requirements are described in Section IV-2 below, as well as in the SVC-05 PA.

IV. Application and Submission Information

1. Address to Request Application Package: Complete application kits may be obtained from: the National Clearinghouse for Alcohol and Drug Information (NCADI) at 1-800-729-6686. When requesting an application kit for this program, the applicant must specify the funding opportunity title (TCE Grants) and number (TI 05-003) for which detailed information is desired. All information necessary to apply, including where to submit applications and application deadline instructions, is included in the application kit. Application materials, including the PHS 5161-1 application form, are also available electronically via SAMHSA's World Wide Web home page: http://www.samhsa.gov/Grants/generalinfo/useful_Info.aspx and the SVC-05 PA is available electronically at http://www.samhsa.gov/grants/standard/Services/index.aspx.

When submitting an application, applicants must identify one category under which they are applying. Therefore, when submitting an application, be sure to type “TI 05-003” and either: TCE-AI/AN or AA/PI; TCE-Meth; or TCE-Campus SBI (depending on the funding category under which you are applying) in Item Number 10 on the face page of the application form. Also, SAMHSA applicants are required to provide a DUNS Number on the face page of the application. To obtain a DUNS Number, access the Dun and Bradstreet Web site at http://www.dunandbradstreet.com or call 1-866-705-5711. Because grantees in the TCE Grants program may use grant funds to provide direct substance abuse services, applicants are required to complete the Assurance of Compliance with SAMHSA Charitable Choice Statutes and Regulations, Form SMA 170. This form will be posted on SAMHSA's Web site with the NOFA and provided in the application kits available at NCADI.

2. Content and Form of Application Submission: Information including required documents, required application components, and application formatting requirements is available in the SVC-05 PA in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

○ Use the PHS 5161-1 application.

○ Applications must be received by the application deadline or have proof of timely submission, as detailed in Section IV-3 of the SVC-05 PA.

○ Information provided must be sufficient for review.

○ Text must be legible. (For Project Narratives submitted electronically in Microsoft Word, see separate requirements below under “Guidance for Electronic Submission of Applications.”)

○ Type size in the Project Narrative cannot exceed an average of 15 characters per inch, as measured on the physical page. (Type size in charts, tables, graphs, and footnotes will not be considered in determining compliance.)

○ Text in the Project Narrative cannot exceed 6 lines per vertical inch.

○ Paper must be white paper and 8.5 inches by 11.0 inches in size.

○ To ensure equity among applications, the amount of space allowed for the Project Narrative cannot be exceeded. (For Project Narratives submitted electronically in Microsoft Word, see separate requirements below under “Guidance for Electronic Submission of Applications.”)

• Applications would meet this requirement by using all margins (left, right, top, bottom) of at least one inch each, and adhering to the page limit for the Project Narrative stated in the SVC-05 PA.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

To facilitate review of your application, follow these additional guidelines. Failure to adhere to the following guidelines will not, in itself, result in your application being screened out and returned without review. However, the information provided in your application must be sufficient for review. Following these guidelines will help ensure your application is complete, and will help reviewers to consider your application.

○ The 10 application components required for SAMHSA applications should be included. These are:

• Face Page (Standard Form 424, which is in PHS 5161-1).

• Abstract.

• Table of Contents.

• Budget Form (Standard Form 424A, which is in PHS 5161-1).

• Project Narrative and Supporting Documentation.

• Appendices.

• Assurances (Standard Form 424B, which is in PHS 5161-1).

• Certifications (a form in PHS 5161-1).

• Disclosure of Lobbying Activities (Standard Form LLL, which is in PHS 5161-1).

• Checklist (a form in PHS 5161-1).

○ Applications should comply with the following requirements:

• Provisions relating to confidentiality, participant protection and the protection of human subjects, as indicated in the SVC-05 PA.

• Budgetary limitations as indicated in sections I, II, and IV-5 of the SVC-05 PA.

• Documentation of nonprofit status as required in the PHS 5161-1.

○ Pages should be typed single-spaced in black ink, with one column per page. Pages should not have printing on both sides.

○ Please number pages consecutively from beginning to end so that information can be located easily during review of the application. The cover page should be page 1, the abstract page should be page 2, and the table of contents page should be page 3. Appendices should be labeled and separated from the Project Narrative and budget section, and the pages should be numbered to continue the sequence.

○ The page limits for Appendices stated in the specific funding announcement should not be exceeded.

○ Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by January 13, 2005. You will be notified by postal mail that your application has been received. Additional submission information is available in the SVC-05 PA in Section IV-3.

Guidance for Electronic Submission of Applications

SAMHSA is now offering the opportunity for you to submit your application to us either in electronic or paper format. Electronic submission is voluntary. No review points will be added or deducted, regardless of whether you use the electronic or paper format.

To submit an application electronically, you must use the http://www.Grants.gov apply site. You will be able to download a copy of the application package from http://www.Grants.gov, complete it off-line, and then upload and submit the application via the Grants.gov site. E-mail submissions will not be accepted.

You must search the Grants.gov site for the downloadable application package, by the Catalogue of Federal Domestic Assistance (CFDA) number. You can find the CFDA number on the first page of the funding announcement.

You must follow the instructions in the User Guide available at: http://www.Grants.gov apply site, on the Customer Support tab. In addition to the User Guide, you may wish to use the following sources for help:

• By e-mail: support@Grants.gov.

• By phone: 1-800-518-4726 (1-800-518-GRANTS). The Customer Support Center is open from 7 a.m. to 9 p.m. Eastern Time, Monday through Friday.

If this is the first time you have submitted an application through Grants.gov, you must complete four separate registration processes before you can submit your application. Allow at least two weeks (10 business days) for these registration processes, prior to submitting your application. The processes are: DUNS Number registration, Central Contractor Registry (CCR) registration, Credential Provider registration, and Grants.gov registration.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

The Project Narrative must be a separate document in the electronic submission. Formatting requirements for SAMHSA grant applications are described above, and in section IV-2.3 and appendix A of the standard grant announcement. These requirements also apply to applications submitted electronically, with the following exceptions only for Project Narratives submitted electronically in Microsoft Word. These requirements help to ensure the accurate transmission and equitable treatment of applications.

• Text legibility: Use a font of Times New Roman 12, line spacing of single space, and all margins (left, right, top, bottom) of one inch each. Adhering to these standards will help to ensure the accurate transmission of your document. If the type size in the Project Narrative of an electronic submission exceeds 15 characters per inch, or the text exceeds 6 lines per vertical inch, SAMHSA will reformat the document to Times New Roman 12, with line spacing of single space. Please note that this may alter the formatting of your document, especially for charts, tables, graphs, and footnotes.

• Amount of space allowed for project narrative: The Project Narrative for an electronic submission may not exceed 15,450 words. Any part of the Project Narrative in excess of the word limit will not be submitted to review. To determine the number of words in your Project Narrative document in Microsoft Word, select file/properties/statistics.

Applicants are strongly encouraged to submit their applications to Grants.gov early enough to resolve any unanticipated difficulties prior to the deadline. You may also submit a back-up paper submission of your application. Any such paper submission must be received in accordance with the requirements for timely submission detailed in Section IV-3 of the grant announcement. The paper submission must be clearly marked: “Back-up for electronic submission.” The paper submission must conform with all requirements for non-electronic submissions. If both electronic and back-up paper submissions are received by the deadline, the electronic version will be considered the official submission.

After you electronically submit your application, you will receive an automatic acknowledgement from Grants.gov that contains a Grants.gov tracking number. It is important that you retain this number.

The Grants.gov Web site does not accept electronic signatures at this time. Therefore, you must submit a signed paper original of the face page (SF 424), the assurances (SF 424B), and the certifications, and hard copy of any other required documentation that cannot be submitted electronically. You must reference the Grants.gov tracking number for your application, on these documents with original signatures, and send the documents to the following address. The documents must be received at the following address within 5 business days of your electronic submission. Delays in receipt of these documents may impact the score your application receives or the ability of your application to be funded.

For United States Postal Service: Crystal Saunders, Director of Grant Review, Office of Program Services, Substance Abuse and Mental Health Services Administration, Room 3-1044, 1 Choke Cherry Road, Rockville, MD 20857, ATTN: Electronic Applications.

For other delivery service (DHL, Falcon Carrier, Federal Express, United Parcel Service): Crystal Saunders, Director of Grant Review, Office of Program Services, Substance Abuse and Mental Health Services Administration, Room 3-1044, 1 Choke Cherry Road, Rockville, MD 20850, ATTN: Electronic Applications.

If you require a phone number for delivery, you may use (240) 276-1199.

4. Intergovernmental Review: Applicants for this funding opportunity must comply with Executive Order 12372 (E.O. 12372). E.O. 12372, as implemented through Department of Health and Human Services (DHHS) regulation at 45 CFR part 100, sets up a system for State and local review of applications for Federal financial assistance. Instructions for complying with E.O. 12372 are provided in the SVC-05 PA in Section IV-4. A current listing of State Single Points of Contact (SPOCs) is included in the application kit and is available at http://www.whitehouse.gov/omb/grants/spoc.html.

State and local governments and Indian tribal government applicants are not subject to the Public Health System Reporting Requirements; therefore, only applicants for Category 3—Campus SBI are required to follow the instructions for completing the Public Health System Impact Statement (PHSIS) contained in the SVC-05 PA. In addition, only Category 3—Campus SBI applicants have to include an Appendix 4, Letter to the SSA, as required in the SVC-05 PA.

5. Funding Restrictions: Information concerning funding restrictions is available in the SVC-05 PA in Section IV-5.

V. Application Review Information

1. Evaluation Criteria: Applications will be reviewed against the Evaluation Criteria and requirements for the Project Narrative specified in the SVC-05 PA. The following information describes exceptions or limitations to the SVC-05 PA and provides special requirements that pertain only to Targeted Capacity Expansion Grants. Applicants must adhere to the following requirements in their applications, in addition to the requirements specified in the SVC-05 PA.

1.1 In “Section A, Statement of Need,” Category 3 (Campus SBI) applicants do not have to address the 3rd bullet requiring non-tribal applicants to show that identified needs are consistent with priorities of the State or county that has primary responsibility for the service delivery system. Therefore, Category 3 applicants do not have to include a copy of the State or County Strategic Plan as Appendix 5 of their application.

1.2 In “Section C, Proposed Implementation Approach,” Category 3 (Campus SBI) applicants must, in addition to the requirements specified in the SVC-05 PA, address the following requirements that are added as an additional bullet in the Evaluation Criteria section of the SVC-05 PA:

Identify the geographic location of the proposed screening and brief intervention provider in relation to the targeted college/university campus. If the provider is located off campus, address how students will gain access to the service provider. Identify where subsequent services (i.e., treatment) will be provided.

1.3 In “Section E, Evaluation and Data,” applicants must, in addition to the requirements specified in the SVC-05 PA, address the following requirements that are added to the end of the 6th bullet in the Evaluation Criteria section of the SVC-05 PA:

Applicants must state whether or not the per-person costs are within the following reasonable ranges by treatment modality. Applicants must also discuss the reasonableness of the per person costs. If proposed costs exceed reasonable ranges, a detailed justification must be provided.

Program costs. The following are considered reasonable ranges by treatment modality:

Residential: $3,000 to $10,000.

Outpatient (Non-Methadone): $1,000 to $5,000.

Outpatient (Methadone): $1,500 to $8,000.

Intensive Outpatient: $1,000 to $7,500.

Screen/Brief Intervention/Brief Treatment/Outreach/Pretreatment

Services: $200 to $1,200.

Drug Court Programs (regardless of client treatment modality): $3,000 to $5,000.

SAMHSA/CSAT computes per person costs as follows. The total support requested for the life of the project is multiplied by .8 (.2 will be the allowance for GPRA reporting requirements). The resulting amount is then divided by the number of persons the applicant proposes to serve over the life of the project.

The outreach and pretreatment services cost band only applies to outreach and pretreatment programs that do not also offer treatment services but operate within a network of substance abuse treatment facilities. Treatment programs that add outreach and pretreatment services to a treatment modality or modalities are expected to fall within the cost band for that treatment modality.

1.4 Performance Measurement: All SAMHSA grantees are required to collect and report certain data, so that SAMHSA can meet its obligations under the Government Performance and Results Act (GPRA). Grantees of the Targeted Capacity Expansion Grants program will be required to report performance in several areas. Applicants must document their ability to collect and report the required data in “Section E: Evaluation and Data” of their applications.

All Targeted Capacity Expansion grant applicants must document their ability to collect and report data using the Targeted Capacity Expansion Client Level GPRA tool that can be found at http://www.csat-gpra.samhsa.gov (click on “Data Collection Tools/Instruments”), along with instructions for completing it. Hard copies are available in the application kits distributed by SAMHSA's National Clearinghouse for Alcohol and Drug Information (NCADI). GPRA data must be collected at baseline (i.e., the client's entry into the project), 6 months after the baseline, and 12 months after the baseline. Projects serving adolescents also must collect 3 month post-baseline data to capture the nuances of change particular to this population. GPRA data must be entered into the GPRA Web system within 7 business days of the forms being completed. In addition, 80% of the participants must be followed up on. GPRA data are to be collected and then entered into CSAT's GPRA Data Entry and Reporting System (http://www.csat-gpra.samhsa.gov). Training and technical assistance on data collecting, tracking, and follow-up, as well as data entry, will be provided by CSAT.

2. Review and Selection Process: Information about the review and selection process is available in the SVC-05 PA in Section V-2.

VI. Award Administration Information

Award administration information, including information about award notices, administration requirements and reporting requirements, is included in the SVC-05 PA in Section VI. SAMHSA's standard terms and conditions are available at http://www.samhsa.gov/grants/generalinfo/useful_info.aspx.

You must plan to send a minimum of three persons (Authorized Grantee, Project Director if different, Evaluator) to at least two joint grantee meetings each year instead of the requirement for two persons to one joint grantee meeting each year as stated in the SVC-05 PA and should budget accordingly.

TCE grantees are required to provide progress reports every six months instead of annual progress reports required by the SVC-05 PA. The last report will be a final, cumulative report.

VII. Contacts for Additional Information

For questions about program issues, contact: Ken Robertson, SAMHSA/CSAT, 1 Choke Cherry Road, Room 5-1001, Rockville, MD 20857; (240) 276-1621; E-mail: kenneth.robertson@samhsa.hhs.gov.

For questions on grants management issues, contact: Kimberly Pendleton, SAMHSA, Division of Grants Management, 1 Choke Cherry Road, Room 7-1097, Rockville, MD 20857; (240) 276-1421; E-mail: kimberly.pendleton@samhsa.hhs.gov.

Dated: November 5, 2004.
Daryl Kade,
Director, Office of Policy, Planning and Budget, Substance Abuse and Mental Health Services Administration.

[FR Doc. 04-25188 Filed 11-10-04; 8:45 am]

BILLING CODE 4162-20-P